CONSUMER PRODUCT SAFETY COMMISSION

[Docket No. CPSC-2010-0055]

Agency Information Collection Activities; Proposed Collection; Comment Request; Standard for the Flammability of Mattresses and Mattress Pads and Standard for the Flammability (Open Flame) of Mattress Sets

AGENCY: Consumer Product Safety Commission.

ACTION: Notice.

SUMMARY: As required by the Paperwork Reduction Act of 1995 (44 U.S.C. Chapter 35), the Consumer Product Safety Commission (CPSC or Commission) requests comments on a proposed extension of approval of a collection of information from manufacturers and importers of mattresses and mattress pads. The collection of information is set forth in the Standard for the Flammability of Mattresses and Mattress Pads, 16 CFR part 1632 and the Standard for the Flammability (Open Flame) of Mattress Sets, 16 CFR part 1633. These regulations establish testing and recordkeeping requirements for manufacturers and importers subject to the standards. The Commission will consider all comments received in response to this notice, before requesting an extension of approval of this collection of information from the Office of Management and Budget (OMB).

DATES: The Office of the Secretary must receive comments not later than February 4, 2014.

ADDRESSES: You may submit comments, identified by Docket No. CPSC-2010-0055, by any of the following methods:

Electronic Submissions

Submit electronic comments in the following way:

Federal eRulemaking Portal: http://www.regulations.gov. Follow the instructions for submitting comments.

The Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION:

A. Background

There are approximately 671 establishments producing mattresses: Approximately 571 produce conventional mattresses and approximately 100 establishments produce nonconventional mattresses (such as futons, sleep sofa inserts, hybrid water mattresses) in the United States. The Standard for the Flammability of Mattresses and Mattress Pads, 16 CFR part 1632, (part 1632 standard) was promulgated under section 4 of the Flammable Fabrics Act (FFA), 15 U.S.C. 1193, to reduce unreasonable risks of burn injuries and deaths from fires associated with mattresses and mattress pads. The part 1632 standard prescribes requirements to test whether a mattress or mattress pad will resist ignition from a smoldering cigarette. The part 1632 standard requires manufacturers to perform prototype tests of each combination of materials and construction methods used to produce mattresses or mattress pads and to obtain acceptable results from such testing. Manufacturers and importers must maintain the records and test results specified under the standard. OMB previously approved the collection of information under control number 3041-0014, with an expiration date of December 31, 2013.

The Commission also promulgated the Standard for the Flammability (Open Flame) of Mattress Sets, 16 CFR part 1633, (part 1633 standard) under section 4 of the FFA to reduce deaths and injuries related to mattress fires, particularly those ignited by open flame sources, such as lighters, candles, and matches. The part 1633 standard requires manufacturers to maintain certain records to document compliance with the standard, including maintaining records concerning prototype testing, pooling, and confirmation testing, and quality assurance procedures and any associated testing. The required records must be maintained for as long as mattress sets based on the prototype are in production and must be retained for three years thereafter. Although some larger manufacturers may produce mattresses based on more than 100 prototypes, most mattress manufacturers base their complying production on 15 to 20 prototypes. OMB previously approved the collection of information for 16 CFR part 1633 under Control Number 3041-0133, with an expiration date of May 31, 2016. The information collection requirements under the part 1633 standard do not duplicate the testing and recordkeeping requirements under the part 1632 standard.

Because the collection of information required under the part 1632 and part 1633 standards relate to reducing fire hazards associated with mattresses and mattress pads, the Commission now proposes to request an extension of approval for the collection of information for both standards under a single control number, 3041-0014.

B. Burden Hours

Respondents' Costs

For testing and recordkeeping under the part 1632 standard, based on data collected from the rulemaking proceeding, CPSC staff estimates that 671 respondents will each spend 26 hours for testing and recordkeeping annually for a total of 17,446 hours (671 establishments × 26 hours). Staff bases the hourly compensation for the time required for a technical employee to test prototypes and record test results on an hourly compensation of $61.80 (U.S. Bureau of Labor Statistics, “Employer Costs for Employee Compensation,” June 2013, Table 9, total compensation of all management, professional, and related occupations in goods-producing industries: http://www.bls.gov/ncs). Staff estimates the annualized cost to respondents would be $1,078,162 (17,446 hours × $61.80).

In addition, under the part 1633 standard, based on data collected from the rulemaking proceeding, CPSC staff estimates additional testing and recordkeeping requirements will take approximately 4 hours and 44 minutes per establishment, per qualified prototype. Assuming that establishments qualify their production with an average of 20 different qualified prototypes, about 94.6 hours (4.73 hours × 20 prototypes) per establishment per year would be required for testing and recordkeeping for the part 1633 standard. (Note that pooling among establishments or using a prototype qualification for longer than one year will reduce this estimate.) This translates to an annual recordkeeping time cost to all mattress producers of 63,477 hours (671 establishments × 94.6 hours) for the part 1633 standard. Based on an hourly compensation for the time required of $61.80 (U.S. Bureau of Labor Statistics, “Employer Costs for Employee Compensation,” June 2013, Table 9, total compensation of all management, professional, and related occupations in goods-producing industries: http://www.bls.gov/ncs), total estimated costs for recordkeeping for both mattress standards are about $3.9 million (63,477 hours × $61.80).

Thus, the total cost to the estimated 671 respondents for the information collection requirements under 16 CFR part 1632 and 16 CFR part1633 is estimated to be approximately $4.9 million.

Federal Government's Costs

The estimated annual cost of the information collection requirements to the federal government to review 16 CFR part 1632 is approximately $101,890. This sum includes 10 staff months and travel costs expended for examination of the information in records required to be maintained by the part 1632 standard. This estimate is based on an annual wage of $84,855 (the equivalent of a GS-12 Step 5 employee) with an additional 30.6 percent added for benefits (U.S. Bureau of Labor Statistics, “Employer Costs for Employee Compensation,” June 2013, Table 1, percentage of wages and salaries for all civilian management, professional, and related employees) for total annual compensation $122,269 per full time employee.

The estimated annual cost of information collection requirements to the federal government to review 16 CFR part 1633 is approximately $2,939. This represents 50 staff hours for record review. This estimate uses an average hourly wage of $40.80 (the equivalent of a GS-12 Step 5 employee) with an additional 30.6 percent added for benefits (U.S. Bureau of Labor Statistics, “Employer Costs for Employee Compensation,” June 2013, Table 1, percentage of wages and salaries for all civilian management, professional, and related employees) for total hourly compensation $58.78.

Staff estimates the total cost to the federal government for information collections for both mattress standards is $104,829.

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: December 3, 2013.
Todd A. Stevenson,
Secretary, Consumer Product Safety Commission.

[FR Doc. 2013-29148 Filed 12-5-13; 8:45 am]

BILLING CODE 6355-01-P